ENVIRONMENTAL PROTECTION AGENCY

[FRL-7523-9]

Notice of Proposed Administrative Settlement Pursuant to the Comprehensive Environmental Response, Compensation and Liability Act of 1980, as Amended by the Superfund Amendments and Reauthorization Act, Riley Lane Residence Superfund Site

AGENCY: Environmental Protection Agency (EPA).

ACTION: Notice; request for public comment.

SUMMARY: Notification is hereby given that the United States Environmental Protection Agency proposes to enter into an Agreement for Recovery of Past Response Costs (Agreement) relating to the Riley Lane Residence Superfund Site located in Salt Lake City, Utah. The proposed Agreement is subject to final approval after the comment period. The Agreement resolves Superfund liability for past costs under section 107 of the Comprehensive Environmental Response, Compensation and Liability Act of 1980, as amended by the Superfund Amendments and Reauthorization Act of 1986 (CERCLA), against Union Pacific Railroad. The Agreement requires Union Pacific Railroad to pay EPA $80,000 in full satisfaction of EPA's claim for past costs incurred in connection with the Riley Land Residence Superfund Site. For thirty (30) days following the date of publication of this notice, EPA will accept written comments relating to the proposed Agreement. The Agency's response to any comments received will be available for public inspection at the Superfund Records Center at the U.S. Environmental Protection Agency, Region VIII, 999 18th Street, Denver, Colorado 80202.

Availability: The proposed Agreement is available for public inspection at the U.S. Environmental Protection Agency, Region VIII, 999 18th Street, Denver, Colorado 80202. A copy of the proposed Agreement may be obtained from Maureen O'Reilly, Enforcement Specialist, U.S. Environmental Protection Agency, Region VIII, 999 18th Street, Suite 300, ENF-T Denver, Colorado 80202. Comments should reference the “Riley Lane residence Superfund Site” and should be forwarded to Maureen O'Reilly, Enforcement Specialist, at the above address.

FOR FURTHER INFORMATION CONTACT: Andrea Madigan, Enforcement Attorney, U.S. Environmental Protection Agency, Region VIII, 999 18th Street, Suite 300, ENF-L Denver, Colorado 80202.

Dated: June 12, 2003.
Robert E. Roberts,
Regional Administrator, Region VIII.

[FR Doc. 03-17207 Filed 7-7-03; 8:45 am]

BILLING CODE 6560-50-P